DEPARTMENT OF ENERGY

Federal Energy Regulatory Commission

[Docket No. IC13-17-000]

Commission Information Collection Activities (FERC-551); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection FERC-551, Reporting of Flow Volume and Capacity by Interstate Natural Gas Pipelines, to the Office of Management and Budget (OMB) for review of the information collection requirements. Any interested person may file comments directly with OMB and should address a copy of those comments to the Commission as explained below. The Commission issued a Notice in the Federal Register (78 FR 36176, 6/17/2013) requesting public comments. FERC received no comments on the FERC-551 and is making this notation in its submittal to OMB.

DATES: Comments on the collection of information are due by October 7, 2013.

ADDRESSES: Comments filed with OMB, identified by the OMB Control No. 1902-0243, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-17-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Reporting of Flow Volume and Capacity by Interstate Natural Gas Pipelines.

OMB Control No.: 1902-0243.

Type of Request: Three-year extension of the FERC-551 information collection requirements with no changes to the reporting requirements.

Abstract: Interstate pipelines are required to post on their Web sites the volumes of no-notice service flows ¹ at each receipt and delivery point before 11:30 a.m. central clock time three days after the day of gas flow.

¹ See 18 CFR 284.7(a)(4) (requiring pipelines to provide no-notice service).

FERC implemented Order Nos. 720 and 720-A to comply with the Energy Policy Act of 2005 (“EPAct 2005”) and specifically Section 23 of EPAct 2005, which amended the NGA to direct FERC to “facilitate price transparency in markets for the sale or transportation of physical natural gas in interstate commerce.” On October 24, 2011, the United States Court of Appeals for the Fifth Circuit issued a decision granting the Texas Pipeline Association and the Railroad Commission's petition for review and vacating FERC's Order Nos. 720 and 720-A. In its order, the 5th Circuit held that Order Nos. 720 and 720-A exceeded the scope of FERC' authority under the Natural Gas Act of 1938 and FERC could not require intrastate natural gas pipelines to post the information. However, the court's decision did not disrupt the reporting and posting obligations of interstate natural gas pipelines.²

² Order Granting Motion to Clarify Opinion, Texas Pipelines Ass'n v. FERC, 661 F.3d 258 (Dec. 20. 2011).

Type of Respondents: Interstate Natural Gas Pipelines.

Estimate of Annual Burden: ³ The Commission estimates the total Public Reporting Burden for this information collection as:

³ Burden is defined as the total time, effort, or financial resources expended by persons to generate, maintain, retain, or disclose or provide information to or for a Federal agency. For further explanation of what is included in the information collection burden, reference 5 Code of Federal Regulations 1320.3.

FERC-551: Reporting of Flow Volume and Capacity by Interstate Natural Gas Pipelines
Number of respondents (A) | Number of annual responses per respondent (B) | Total number responses (A)×(B)=(C) | Estimated burden hours per response (D) | Estimated total annual burden (C)×(D)
101 | 366 | 36,966 | ⁴ 0.5 | 18,483

The total estimated annual cost burden to respondents is $1,040,038 [18,483 hours * $56.27/hour ⁵ = $1,040,038]

⁴ In the prior notice regarding this collection, FERC used 183 burden hours per response, and the assumption of one response per year. In this notice we show the burden to a more detailed level, indicating that there is one response per day per respondent. We use 366 days as this keeps the total burden hour figure consistent with the prior notice.

⁵ This figure includes wages plus benefits and comes from the Bureau of Labor Statistics Management Analyst category (13-1111) (http://bls.gov/oes/current/naics2_22.htm and http://www.bls.gov/news.release/ecec.nr0.htm).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 29, 2013.
Kimberly D. Bose,
Secretary.

[FR Doc. 2013-21669 Filed 9-5-13; 8:45 am]

BILLING CODE 6717-01-P